FEDERAL MINE SAFETY AND HEALTH REVIEW COMMISSION

Sunshine Act Meetings

February 4, 2014.

TIME AND DATE: 10 a.m., Thursday, February 13, 2014.

PLACE: The Richard V. Backley Hearing Room, Room 511N, 1331 Pennsylvania Avenue NW., Washington, DC 20004 (entry from F Street entrance).

STATUS: Open.

MATTERS TO BE CONSIDERED: The Commission will hear oral argument in the following matters: Secretary of Labor v. Twentymile Coal Co., Docket Nos. WEST 2009-241, et al., and Secretary of Labor v. Twentymile Coal Co., Docket Nos. WEST 2009-1323, et al. (Issues include whether the Administrative Law Judge erred in affirming citations for failing to provide additional insulation for a communications circuit.) Oral argument in these matters was originally scheduled for January 30, 2014, but was postponed due to travel problems.

Any person attending this oral argument who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2014-02771 Filed 2-5-14; 11:15 am]

BILLING CODE 6735-01-P